SECURITIES AND EXCHANGE COMMISSION

[Release Nos. 33-8786, 34-55456; File No. 4-515]

Roundtable on Interactive Data: Creating Interactive Data To Serve Investors

AGENCY: Securities and Exchange Commission.

ACTION: Notice of roundtable meeting.

SUMMARY: On Monday, March 19, 2007, the Securities and Exchange Commission will hold a roundtable discussion on creating interactive data to serve investors. The event begins with remarks from SEC Chairman Cox and an address by Vanguard Group Chairman and CEO John J. Brennan on the use of interactive data by public companies and mutual funds to improve disclosure for individual investors. Following Mr. Brennan's remarks, John W. White, Director of the Commission's Division of Corporation Finance, will discuss the use of interactive data to create better disclosure documents. The roundtable will also feature a panel discussion on the benefits, including potential cost savings, of preparing financial reports using interactive data written in a computer language called XBRL. Panelists will include executives at public companies currently providing investors with interactive data on a test basis as part of the SEC's voluntary filing program. The panel will be moderated by Chicago Sun-Times personal finance columnist Terry Savage. Richard Bennett, Chief Executive Officer of The Corporate Library, will provide closing remarks and discuss the significance of interactive data for corporate governance.

The roundtable will take place at the Commission's headquarters at 100 F Street, NE., Auditorium, Room L-002, Washington, DC at 10 a.m. The public is invited to observe the roundtable discussions. Seating is available on a first-come, first-serve basis.

FOR FURTHER INFORMATION CONTACT: Brigitte Lippmann at (202) 551-3713.

Dated: March 13, 2007.
By the Commission.
Nancy M. Morris,
Secretary.

[FR Doc. E7-4892 Filed 3-15-07; 8:45 am]

BILLING CODE 8010-01-P